DEPARTMENT OF HEALTH AND HUMAN SERVICES

Substance Abuse and Mental Health Services Administration

Center for Substance Abuse Prevention; Notice of Meeting

Pursuant to Public Law 92-463, notice is hereby given of the meeting of the Center for Substance Abuse Prevention (CSAP) National Advisory Council in September 2000.

The agenda will include the review, discussion and evaluation of individual grant applications and detailed discussion of information about the Center's procurement plans. Therefore a portion of the meeting will be closed to the public as determined by the Administrator, SAMHSA, in accordance with Title 5 U.S.C. 552b(c)(6) and 5 U.S.C. App. 2, Section 10(d).

The agenda of the open portion will include CSAP's Director's Report, an update of CSAP's budget, SAMHSA's Administrator's Report, a report on CSAP's Decision Support System, and discussions of administrative matters and announcement.

If anyone needs special accommodations for persons with disabilities, please notify the contact listed below.

A summary of this meeting and roster of committee members may be obtained from Yuth Nimit, Executive Secretary, Rockwall II Building, Suite 910, 5600 Fishers Lane, Rockville, Maryland 20857, Telephone: (301) 443-8455.

Substantive program information may be obtained from the contact listed below.

Committee Name: Center for Substance Abuse Prevention, National Advisory Council.

Meeting Dates: September 11-12, 2000.

Place: Holiday Inn Bethesda 8120 Wisconsin Avenue, Versaille III Room, Bethesda, Maryland 20814, (301) 652-2000.

Closed: September 11, 2000, 8:30 a.m. to 4:00 p.m.

Open: September 12, 2000, 8:30 a.m. to 2:00 p.m.

Contact: Yuth Nimit, 5515 Security Lane, Rockwall II Building, Suite 910, Rockville, Maryland 20852, Telephone: (301) 443-8455.

Dated: August 29, 2000.
Toian Vaughn,
Committee Management Officer, Substance Abuse and Mental Health Services Administration.

[FR Doc. 00-22776 Filed 9-5-00; 8:45 am]

BILLING CODE 4162-20-P